CORPORATION FOR NATIONAL AND COMMUNITY SERVICE

Notice Inviting Informal Public Comment on Training and Technical Assistance and Disability Inclusion Programming

AGENCY: Corporation for National and Community Service (CNCS).

ACTION: Notice Inviting Public Comment.

SUMMARY: The Corporation for National and Community Service (CNCS) is inviting informal public comment from the public concerning the development and implementation of a unified training and technical assistance (TTA) strategy and disability inclusion programming for all CNCS programs. This input will be used to inform competitive processes for funding TTA as we transition from a formula-based methodology to competitive processes.

The new budget environment requires a more focused and outcome-oriented strategy for TTA and disability programming. Our desired outcomes for TTA center on performance measurement and management, member/volunteer development and impact, as well as assisting programs in meeting requirements related to fiscal and program compliance. For disability inclusion, our goal is to increase the numbers of people with disabilities serving in national service programs. Stakeholder feedback on the most effective way to address these outcomes will be helpful to CNCS as we plan and prepare for this work.

We will accept comments in writing, as described below, or in person at a listening session at the National Conference on Volunteering and Service in Chicago, June 19, 2012. We will also hold two conference calls before the end of the comment period (please see schedule below). Please see SUPPLEMENTARY INFORMATION for topics to consider when formulating input. CNCS will not respond individually to those providing input, but will consider comments in preparing for future competitions.

Please note that this Notice does not request comments on individual application forms used under the various programs of CNCS. CNCS periodically publishes separate requests for comment concerning such application forms.

DATES: Comments due: July 6, 2012.

ADDRESSES: You may submit comments by any of the following methods:

(1) Electronically through the CNCS email address system sent to: tta@cns.gov or via www.regulations.gov.

(2) By participating in any of the conference calls or the listening session described below.

(3) By mail postmarked no later than July 6, 2012 sent to: Corporation for National and Community Service, Attn: Gina Fulbright-Powell; 1201 New York Avenue NW., Washington, DC 20525.

(4) By fax to: (202) 606-3477 Attn: Gina Fulbright-Powell.

For more information on CNCS and its programs, please visit our Web site at http://www.nationalservice.gov.

FOR FURTHER INFORMATION CONTACT: Gina Fulbright-Powell, Corporation for National and Community Service; tta@cns.gov; (202) 606-7515 or TDD (202) 606-3472. Persons with visual impairments may request this notice in an alternative format.

Description of Requested Input

CNCS is inviting informal input from the public concerning the development and implementation of a unified training and technical assistance strategy and disability inclusion programming to make the best use of federal funds to support all CNCS programs—AmeriCorps, Senior Corps, VISTA, NCCC, the Martin Luther King, Jr. Day of Service, the 9-11 Day of Service, and the Social Innovation Fund. We will accept written comments via tta@cns.gov or www.regulations.gov.

We will also accept comments at a listening session held at the National Conference on Volunteering and Service in Chicago on June 19, 2012, and will conduct two conference calls between now and the end of the comment period.

CNCS will not respond individually to those providing comments, but will consider input in planning for future competitions. Please submit written input to tta@cns.gov or via www.regulations.gov as soon as possible. Comments should be received no later than 5:00 p.m. ET July 6, 2012 in order for full consideration.

When providing in-person or written input, please consider the following questions:

Aligning TTA With CNCS Strategic Priorities

The CNCS outcomes for training and technical assistance will focus on performance measurement and management, member/volunteer development and impact, and fiscal and program compliance. How are these priorities similar or emergent across CNCS programs? What are other program-specific needs or priorities that should be considered? What might be the best way to deliver TTA to address these priorities? Are there external partners or other federal agencies with intellectual capital in any of these areas we could examine and possibly leverage?

Cost Efficiencies

Funds for training and technical assistance are appropriated under several distinct authorities. However, in what ways can CNCS maximize TTA investments by identifying a common set of needs and strategies? How can we ensure that all programs receive the right level of support? What competencies are common to all CNCS programs? What competencies are unique to a specific program? What learning strategies or infrastructure can be common to all programs? How might we use technology to reach more grantees more effectively? What applicable learning infrastructure exists at the state or intermediary level or through other federal agencies that CNCS might replicate or adopt?

Measuring TTA Impact

How can TTA produce the greatest impact? What are the most important outcomes of successful CNCS training and technical assistance? What are some low cost ways CNCS can measure and account for TTA investments?

Additional Considerations

CNCS seeks additional thoughts and feedback on the following ideas and strategies we have identified and are considering:

• Development of core competencies and assessments across CNCS programs (with tailoring as needed for specific audiences)

• Enhanced Online Learning Center (with tracking of knowledge gains by course and completion by grantee/project/member)

• Knowledge Networks (to stimulate online user-generated content on what works through communities of practice in the focus areas)

• Convenings (both face-to-face and virtually) Regional, national, or local convenings meetings, trainings, or institutes around key competencies (e.g. performance management) or convened by subject (i.e. effective practices in a particular focus area)

• Individualized TA to support targeted programs and projects (based on assessment of capacity and a developmental coaching approach)

Maximizing Disability Inclusion Resources

The intent of funding for Disability Inclusion is to increase the participation of individuals with disabilities in national service and for demonstration activities to further that goal. Given that goal, what competencies are needed for CNCS programs to conduct outreach and recruit people with disabilities to participate in national service programs? What is the best approach for making reasonable accommodations on behalf of all CNCS programs? What are the strategies most likely to lead to greater inclusion of people with disabilities in national service programs? Given the restrictions for collecting information on people with disabilities (other than self-disclosure), how do we track and report the numbers of people with disabilities across CNCS programs?

Conference Calls and Public Input Meeting: CNCS has scheduled two conference calls as follows:

Conference call #1: Monday, June 25 from 4:00-5:00 p.m. ET, call-in number 888-324-4147, participant passcode: POWELL.

Conference call #2: Thursday, June 28 from 12:30-1:30 p.m. ET, call-in number 800-779-1632, participant passcode: 2116663.

CNCS would like to anticipate the number of participants on each call. If you intend to participate, please indicate your intent by sending an email with your name, title, organization, contact information, and which call you will be joining to tta@cns.gov. Transcripts will be available on the CNCS Web site following each call.

The public input listening session will be held on Tuesday, June 19 during the National Conference on Volunteering and Service in Chicago, Illinois at the McCormack Place West at 2301 S. Indiana Avenue from 8:30-10:00 a.m. CNCS would like to anticipate the number of participants. Please send an email indicating your intention to attend the listening session at the National Conference with your name, title, organization, and contact information. We will follow up with a confirmation. Should you not be registered as an attendee for the National Conference you will use this confirmation to secure your admittance. If you are registered for the conference, please go to the conference Web site (www.volunteeringandservice.org), and add session 3336 to your Itinerary.

Also, if you cannot attend the listening session at the National Conference in person, a transcript of the session will be posted on the Web site for online review.

Please check our Web site at http://www.nationalservice.gov/tta for further information and updates.

Dated: June 5, 2012.
Gretchen Van der Veer,
Director, Leadership Development and Training.

[FR Doc. 2012-14014 Filed 6-8-12; 8:45 am]

BILLING CODE 6050-$$-P